NUCLEAR REGULATORY COMMISSION

Sunshine Act Meeting

date: Weeks of May 31, June 7, 14, 21, 28, July 5, 2004.

place: Commissioners' Conference Room, 11555 Rockville Pike, Rockville, Maryland.

status: Public and closed.

matters to be considered:

Week of May 31, 2004

Wednesday, June 2, 2004

9:30 a.m.—Briefing on Equal Employment Opportunity Program (Public Meeting) (Contact: Corenthis Kelley, 301-415-7380).

This meeting will be webcast live at the Web address— www.nrc.gov

1:30 p.m.—Meeting with Advisory Committee on Reactor Safeguards (ACRS) (Public Meeting) (Contact: John Larkins, 301-415-7360).

This meeting will be webcast live at the Web address— www.nrc.gov

Week of June 7, 2004—Tentative

Thursday, June 10, 2004

1:30 p.m.—Discussion of Security Issues (Closed—Ex. 1)

Week of June 14, 2004—Tentative

There are no meetings scheduled for the Week of June 14, 2004.

Week of June 21, 2004—Tentative

There are no meetings scheduled for the Week of June 21, 2004.

Week of June 28, 2004—Tentative

There are no meetings scheduled for the Week of June 28, 2004.

Week of July 5, 2004—Tentative

There are no meetings scheduled for the Week of July 5, 2004.

*The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 27, 2004.
Dave Gamberoni,
Office of the Secretary.

[FR Doc. 04-12518 Filed 5-28-04; 9:38 am]

BILLING CODE 7590-01-P